DEPARTMENT OF ENERGY

Federal Energy Regulatory Commission

[Docket No. RP01-105-000]

Florida Gas Transmission Company; Notice of Proposed Changes in FERC Gas Tariff

November 21, 2000.

Take notice that on November 14, 2000, Florida Gas Transmission Company (FGT) tendered for filing to become part of its FERC Gas Tariff, Third Revised Volume No. 1, the following tariff sheets, effective December 1, 2000:

Forty-Fourth Revised Sheet No. 8A

Thirty-Sixth Revised Sheet No. 8A.01

Thirty-Sixth Revised Sheet No. 8A.02

Fortieth Revised Sheet No. 8B

Thirty-Third Revised Sheet No. 8B.01

FGT states that on August 31, 2000, FGT filed in Docket No. RP00-519-000 to establish a Base Fuel Reimbursement Charge Percentage (Base FRCP) of 3.14% to become effective for the six-month Winter Period beginning October 1, 2000 reflecting FGT's actual fuel usage and unaccounted for gas during the immediately preceding Winter Period. Subsequently, on November 7, 2000, FGT filed in Docket No. RP01-82-000 to reduce the Base FRCP from 3.14% to 2.50%, effective December 1, 2000. The November 7, 2000 filing is pending before the Commission. In the instant filing, FGT is filing a flex adjustment of (0.25)% to be effective December 1, 2000, which, when combined with the proposed Base FRCP of 2.50%, results in an Effective Fuel Reimbursement Charge Percentage of 2.25%. FGT is filing this flex adjustment to reflect the lower fuel usage currently being experienced on its system.

Also, FGT states that the tariff sheets listed above are being filed pursuant to Section 27.A.2.b of the General Terms and Conditions of FGT's Tariff, which provides for flex adjustments to the Base FRCP. Pursuant to the terms of Section 27.A.2.b, a flex adjustment shall become effective without prior FERC approval provided that such flex adjustment does not exceed 0.50%, is effective at the beginning of a month, is posted on FGT's EBB at least five working days prior to the nomination deadline, and is filed no more than sixty and at least seven days before the proposed effective date. The instant filing comports with these provisions and FGT has posted notice of the flex adjustment concurrently with the instant filing.

FGT states that copies of the filing were mailed to all customers served under the rate schedules affected by this filing and the interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30206 Filed 11-27-00; 8:45 am]

BILLING CODE 6717-01-M